ENVIRONMENTAL PROTECTION AGENCY

[FRL-6546-1]

Final NPDES Permits for Log Transfer Facilities Operating in Alaska Prior to October 22, 1985 and Possessing a Section 404 Permit but Not a Section 402 Permit (AK-G70-0000) and All Other Log Transfer Facilities Operating in Alaska (AK-G70-1000)

AGENCY: Environmental Protection Agency (EPA).

ACTION: Notice of Final NPDES General Permits.

SUMMARY: The Director of the Office of Water, EPA Region 10, is publishing notice of the availability of two National Pollutant Discharge Elimination System (NPDES) general permits (numbers AK-G70-0000 and AK-G70-1000) for coverage of log transfer facilities (LTFs) operating in Alaska, pursuant to the provisions of the Clean Water Act, 33 U.S.C. 1251 et seq. General permit AK-G70-0000 (“pre-1985 permit”) includes section 402 modifications to section 404 permits issued to LTFs prior to October 22, 1985, in accordance with section 407 of the Water Quality Act of 1987 (Public Law 100-4). All other LTFs can apply to be authorized to discharge under general permit number AK-G70-1000 (“post-1985 permit”).

Because general permit AK-G70-0000 contains modifications of the existing permits originally issued under section 404 of the Clean Water Act for LTFs operating prior to October 22, 1985, the permit conditions apply to discharges of bark and wood debris upon the effective date of the permit. Although notification is required from these facilities written confirmation is not required from EPA for automatic coverage. General permit AK-G70-1000 authorizes discharges from LTFs not possessing pre-1985, section 404 permits to marine waters of Alaska (extending from the Alexander Archipelago west through central Gulf of Alaska and Prince William Sound to Kodiak Island). These facilities are authorized to discharge under the permit after a Notice Of Intent application for coverage is sent to EPA and the Alaska Department of Environmental Conservation (ADEC) and/or a notification of permit coverage is received from the EPA. The EPA also has the option to automatically cover these facilities, under general permit AK-G70-1000, without receiving the notice of intent application.

Except for those LTFs operating in areas excluded from general permit coverage under the post-1985 permit, the general permits authorize the discharge of bark and wood debris, under specified terms of the general permits, into both near-shore and offshore marine waters in Alaska. The incidental discharge of petroleum products and sediment are also addressed in the general permits. The LTFs authorized by the general permits are required to develop and implement pollution prevention plans and to restrict their discharges to inside the perimeter of the project area (the zone of dilution). The permits also contain annual underwater bark monitoring for those facilities where bark accumulation is likely to occur. If the bark monitoring shows that one acre of continuous coverage and a thickness of 10 cm at any point is exceeded, additional practices must be implemented to minimize additional bark accumulation. The conditions of the general permits are largely based on the Alaska Timber Task Force Guidelines.

EFFECTIVE DATE: The general NPDES permits shall become effective on March 21, 2000. The post-1985 general permit and the authorization to discharge shall expire at midnight on March 21, 2005.

FOR FURTHER INFORMATION CONTACT: The complete administrative record for the general NPDES permit is available for public review by contacting EPA Region 10, 1200 Sixth Avenue, Seattle, Washington 98101, Telephone: (206) 553-0523 or (206) 553-1643, or via EMAIL to the following address: washington.audrey@epa.gov. For those with impaired hearing or speech, please contact EPA's telecommunication device for the deaf (TDD) at 206/553-1698. Copies of the general NPDES permits, supporting fact sheet for the draft general NPDES permit, response to public comments, and today's publication are available from the EPA Alaska Operations Office at 222 West 7th Avenue, #19, Anchorage, Alaska 99513-7588, 907/271-6561 or the Alaska Department of Environmental Conservation at 410 Willoughby Avenue, Suite 105, Juneau, Alaska 99801. These documents can also be found by visiting the Region 10 web site at www.epa.gov/r10earth/water/htm.

SUPPLEMENTARY INFORMATION:

Public Comment

Pursuant to section 402 of the Clean Water Act, 33 U.S.C. 1342, EPA proposed and solicited comments on the draft general permit in the Federal Register at 61 FR 5111-5112 (September 30, 1996), Anchorage Daily News, Ketchikan Daily News, The Seward Phoenix Log, The Valdez Vanguard, and The Cordova Times. The public comment period was extended by 21 days, notice of which was published in the Federal Register at 61 FR 57425 (November 6, 1996) and the Valdez Vanguard, Daily Sitka Sentinel, The Cordova Times, and The Seward Phoenix Log on November 7, 1996. Additionally, copies of the draft permit were sent to all known log transfer facilities operating under a section 404 permit issued prior to October 22, 1985. EPA also convened a two-day meeting with all commenters on March 11 and 12, 1997, in order to clarify comments received and allow commenters to hear each other's concerns.

Changes have been made from the draft permit to the final permits in response to comments received from facility representatives, tribal representatives, concerned citizens, environmental groups, the U.S. Forest Service, U.S. Fish and Wildlife Service, and the State of Alaska. All comments, along with EPA's responses, are summarized in the Response to Comments documents, which may be obtained at the above addresses, or viewed on the Region 10 web site listed above. The changes address the zone of deposit, the bark accumulation threshold for requiring additional Pollution Prevention practices, methodology for bark monitoring surveys, the areas excluded from permit coverage, and administrative corrections. In response to comments, the section 402 modifications to section 404 permits issued prior to October 22, 1985 are being issued in a separate general permit (AK-G70-0000).

Legal Requirements

Coastal Zone Management Act

The State of Alaska, Office of Management and Budget, Division of Governmental Coordination found this action to be consistent with the approved Alaska Coastal Zone Management Program.

Endangered Species Act and Essential Fish Habitat

Consultation under the Endangered Species Act was conducted with the U.S. Fish and Wildlife Service and National Marine Fisheries Service. The EPA determined that the actions are not likely to adversely affect any threatened or listed species. EPA has also made a determination that the actions have no adverse effects on Essential Fish Habitat.

State Water Quality Standards and State Certification

The State of Alaska, Department of Environmental Conservation, has certified under section 401 of the Clean Water Act, that the subject discharges under both general permits comply with the Alaska State Water Quality Standards and sections 208(e), 301, 302, 303, 306 and 307 of the Clean Water Act.

Executive Order 12866

EPA has determined that this general permit is not a “significant regulatory action” under the terms of Executive Order 12866 and is therefore not subject to OMB review.

Paperwork Reduction Act

The information collection requirements of this permit were previously approved by the Office of Management and Budget (OMB) under the provisions of the Paperwork Reduction Act, 44 U.S.C. 3501 et seq. and assigned OMB control numbers 2040-0086 (NPDES permit application) and 2040-0004 (discharge monitoring reports).

Regulatory Flexibility Act

The Regulatory Flexibility Act (RFA), 5 U.S.C. 601 et seq., requires that EPA prepare a regulatory flexibility analysis for rules subject to the requirements of 5 U.S.C. 553(b) that have a significant impact on a substantial number of small entities. The permit issued today, however, is not a “rule” subject to the requirements of 5 U.S.C. 553(b) and is therefore not subject to the RFA.

Unfunded Mandates Reform Act

Section 201 of the Unfunded Mandates Reform Act (UMRA), Public Law 104-4, generally requires Federal agencies to assess the effects of their “regulatory actions” (defined to be the same as “rules” subject to the RFA) on tribal, state, and local governments and the private sector. The permit issued today, however, is not a “rule” subject to the RFA and is therefore not subject to the requirements of UMRA.

Appeal of Permit

Any interested person may appeal the Log Transfer Facility General NPDES permits in the Federal Court of Appeals in accordance with section 509(b)(1) of the Clean Water Act. This appeal must be filed within 120 days of the permit effective date. The permit effective date is defined at 40 CFR 23.2 to be at 1:00 p.m. eastern time, two weeks after the date of publication in the Federal Register. Persons affected by a general NPDES permit may not challenge the conditions of the permit as a right of further EPA proceedings. Instead, they may either challenge the permit in court or apply for an individual NPDES permit and then request a formal hearing on the issuance or denial of an individual NPDES permit.

Dated: February 23, 2000.
Randall F. Smith,
Director, Office of Water, Region 10.

[FR Doc. 00-5501 Filed 3-6-00; 8:45 am]

BILLING CODE 6560-50-P